DEPARTMENT OF HEALTH AND HUMAN SERVICES

Centers for Disease Control and Prevention

Board of Scientific Counselors, (BSC) National Center for Environmental Health/Agency for Toxic Substances and Disease Registry (NCEH/ATSDR)

In accordance with section 10(a)(2) of the Federal Advisory Committee Act (Pub. L. 92-463), the Centers for Disease Control and Prevention (CDC), announces the following meeting of the aforementioned committee:

Times and Dates: 8:30 a.m.-5:00 p.m., EDT, June 3, 2015; 8:30 a.m.-11:45 a.m., EDT, June 4, 2015.

Place: CDC, 4770 Buford Highway, Atlanta, Georgia 30341.

Status: Open to the public, limited only by the space available. The meeting room accommodates approximately 60 people.

Purpose: The Secretary, Department of Health and Human Services (HHS) and by delegation, the Director, CDC and Administrator, NCEH/ATSDR, are authorized under Section 301 (42 U.S.C. 241) and Section 311 (42 U.S.C. 243) of the Public Health Service Act, as amended, to: (1) Conduct, encourage, cooperate with, and assist other appropriate public authorities, scientific institutions, and scientists in the conduct of research, investigations, experiments, demonstrations, and studies relating to the causes, diagnosis, treatment, control, and prevention of physical and mental diseases and other impairments; (2) assist states and their political subdivisions in the prevention of infectious diseases and other preventable conditions and in the promotion of health and well being; and (3) train state and local personnel in health work. The BSC, NCEH/ATSDR provides advice and guidance to the Secretary, HHS; the Director, CDC and Administrator, ATSDR; and the Director, NCEH/ATSDR, regarding program goals, objectives, strategies, and priorities in fulfillment of the agency's mission to protect and promote people's health. The board provides advice and guidance that will assist NCEH/ATSDR in ensuring scientific quality, timeliness, utility, and dissemination of results. The board also provides guidance to help NCEH/ATSDR work more efficiently and effectively with its various constituents and to fulfill its mission in protecting America's health.

Matters for Discussion: The agenda items for the BSC Meeting will include NCEH/ATSDR Office of the Director updates; CDC/ATSDR Activities on Household Air Pollution and Cleaner Cookstoves; NCEH/ATSDR Program Responses to BSC Guidance and Action Items; At the Intersection of Public Health and Health Care: CDC's National Asthma Control Program; Environmental Health Services: Vessel Sanitation Program, Model Aquatic Health Code; Geospatial Research, Analysis, and Services Program; NCEH/ATSDR Emergency Management Activities; Environmental Health Tracking Program; Advances in Laboratory Methods—Molecular Newborn Screening Tests; and updates from the National Institute for Environmental Health Services, National Institute for Occupational Safety and Health, U.S. Department of Energy and the U.S. Environmental Protection Agency.

Agenda items are subject to change as priorities dictate.

Supplemental Information: The public comment period is scheduled on Wednesday, June 3, 2015 from 2:45 p.m. until 3:00 p.m., and on Thursday, June 4, 2015 from 11:00 a.m. until 11:15 a.m.

Contact Person for More Information: Sandra Malcom, Committee Management Specialist, NCEH/ATSDR, 4770 Buford Highway, Mail Stop F-61, Chamblee, Georgia 30345; Telephone 770/488-0575 or 770/488-0577, Fax: 770/488-3377; Email: smalcom@cdc.gov. The deadline for notification of attendance is May 27, 2015.

The Director, Management Analysis and Services Office, has been delegated the authority to sign Federal Register notices pertaining to announcements of meetings and other committee management activities for both the Centers for Disease Control and Prevention and the Agency for Toxic Substances and Disease Registry.

Catherine Ramadei,
Acting Director, Management Analysis and Services Office, Centers for Disease Control and Prevention.

[FR Doc. 2015-10414 Filed 5-4-15; 8:45 am]

BILLING CODE 4163-18-P